SECURITIES AND EXCHANGE COMMISSION

[Release No. 34-57613]

Self-Regulatory Organizations; Boston Stock Exchange, Inc.; Declaration of Effectiveness of the Boston Stock Exchange Fingerprinting Plan

April 3, 2008.

On March 27, 2008, the Boston Stock Exchange, Inc. (“BSE” or “Exchange”) filed with the Securities and Exchange Commission (“Commission”) a Fingerprint Plan (“Plan”) pursuant to Rule 17f-2(c) ¹ under the Securities Exchange Act of 1934 (“Act”).² A copy of the Plan is attached as Exhibit A.

¹ 17 CFR 240.17f-2(c).

² 15 U.S.C. 78a et seq.

The BSE believes that the Plan will facilitate compliance by Exchange members with section 17(f)(2) of the Act and Rule 17f-2 thereunder, by providing a facility for the fingerprints of directors, partners, officers and employees of Exchange members to be submitted to the Attorney General of the United States or his designee (“Attorney General”) and processed electronically.

Under the Plan, all persons who are seeking registration with the BSE or are currently registered with the BSE submit fingerprints and identifying information, on paper or electronically, to the Financial Industry Regulation Authority, Inc. (“FINRA”), which then forwards the fingerprints to the Federal Bureau of Investigation (“FBI”) (the fingerprint processing arm of the Attorney General). The FBI identifies submitted fingerprints, retrieves relevant criminal history information, and returns fingerprint reports to FINRA. BSE members will be able to view the status and results of fingerprints, including any relevant criminal history information, through FINRA's Web Central Registration Depository (Web CRD®) system after submission to the Attorney General.

FINRA notifies the Exchange if the fingerprint results received by FINRA contain information indicating that the person is subject to a statutory disqualification. In such an instance, the Exchange reviews the fingerprint results to determine the possible existence of a statutory disqualification as defined in section 3(a)(39) of the Act, and takes appropriate action, if necessary, concerning eligibility or continued eligibility of the individual for employment or association with an Exchange member.

The Commission has reviewed the procedures detailed in the Plan and believes that the Plan is consistent with the public interest and the protection of investors. Thus, the Commission declares the Plan effective.

The Commission notes that the securities industry fingerprinting procedures are in a state of flux due to rapidly advancing technology. In the event that an industry-wide standard is adopted or becomes prevalent and in the event that this Plan substantially differs therefrom, the Commission would expect the BSE to revise its fingerprint plan to incorporate the industry-wide standard.

For the Commission, by the Division of Trading and Markets, pursuant to delegated authority.³
³ 17 CFR 200.30-3(a)(17)(iii).
Florence E. Harmon,
Deputy Secretary.

Exhibit A

Boston Stock Exchange Fingerprinting Plan

The Boston Stock Exchange, Inc. (“BSE” or “Exchange”) submits this Fingerprint Plan (“Plan”) pursuant to section 17(f)(2) of the Securities Exchange Act of 1934 (“Act”) and Rule 17f-2(c) thereunder.

The purpose of this Plan is to facilitate compliance by Exchange Members with section 17(f)(2) of the Act and Rule 17f-2(c) thereunder, by providing a facility for the fingerprints of directors, partners, officers and employees of Exchange members to be submitted to the Attorney General of the United States or his designee (“Attorney General”) and processed electronically.

The Exchange has established an arrangement with the Financial Industry Regulation Authority, Inc. (“FINRA”), to permit all individuals that must be registered with, or approved by, the Exchange (“registered persons”) to be electronically registered with the Exchange through FINRA's Web Central Registration Depository (“Web CRD”). The Web CRD is a Web-based system that provides broker-dealers and their associated person with “one-stop filing” with the Commission, FINRA and other self-regulatory organizations and regulators. The Web CRD is operated by FINRA and is used by participating regulators in connection with registering and licensing broker-dealers and their associated persons.

In connection with the arrangement with FINRA, all persons who are seeking registration with the Exchange or are currently registered with the Exchange, submit fingerprint cards or fingerprint results to FINRA for processing and/or submission to the Attorney General. The Attorney General provides FINRA with fingerprint processing results for persons seeking registration, and results are provided to the members. FINRA notifies the Exchange if the fingerprint results received by FINRA contain information indicating that the person is subject to a statutory disqualification. In such an instance, the Exchange reviews the fingerprint results to determine the possible existence of a statutory disqualification as defined in section 3(a)(39) of the Act, and takes appropriate action, if necessary, concerning eligibility or continued eligibility of the individual for employment or association with an Exchange member.

The Exchange advises its members and member applicants of any fees charged in connection with processing of fingerprints pursuant to this Plan. The Exchange will file any such Exchange member fees with the Commission pursuant to section 19(b) of the Act.

Copies of fingerprint reports received from the Attorney General with respect to fingerprints submitted by the Exchange pursuant to this Plan will be maintained by the Exchange in accordance with the Exchange's record retention obligations under the Act. Any maintenance of fingerprint records by the Exchange shall be for the Exchange's own administrative purposes, and the Exchange is not undertaking to maintain fingerprint records on behalf of Exchange members pursuant to Rule 17f-2(d)(2).

The Exchange shall not be liable for losses or damages of any kind in connection with the fingerprint services, as a result of a failure to properly follow the procedures described above, or as a result of lost or delayed fingerprint cards, fingerprint records, or fingerprint processing results, or as a result of any action by the Exchange or the Exchange's failure to take action in connection with this Plan.

[FR Doc. E8-7506 Filed 4-9-08; 8:45 am]

BILLING CODE 8011-01-P